DEPARTMENT OF LABOR

Employment and Training Administration

[TA-W-71,529; TA-W-71,529A]

Sara Lee Corporation, Master Data, Cash Applications, Deductions, Collections, Call Center, Information Technology, Accounts Payable, General Accounts, Financial Accounts, Payroll, and Employee Master Data Departments, Including On-Site Leased Workers From Adecco, Crossfire, Kelly, K-Force, Labor Ready Staffing, Randstad, RGP, RHI, Sapphire Technology, Select Staffing, TekSystems, The Brighton Group, TraSys, VIP Staffing, Workforce Temps, Earth City, MO; Sara Lee Corporation, Bellevue, NE; Amended Certification Regarding Eligibility To Apply for Worker Adjustment Assistance

In accordance with Section 223 of the Trade Act of 1974, as amended (“Act”), 19 U.S.C. 2273, the Department of Labor issued a Certification of Eligibility to Apply for Worker Adjustment Assistance on January 13, 2010, applicable to workers of Sara Lee Corporation, Master Data, Cash Applications, Deductions, Collections, Call Center, Information Technology, Accounts Payable, General Accounts, Financial Accounting, Payroll, and Employee Master Data Departments, Earth City, Missouri. The Department's notice was published in the Federal Register on February 16, 2010 (75 FR 7037). The subject workers supply a variety of support services.

At the request of a worker group, the Department reviewed the certification for workers of the subject firm.

New findings show that workers at an affiliated facility in Bellevue, Nebraska supply accounting and payroll services for Sara Lee Bakery facilities in Nebraska, Iowa, and Missouri.

Accordingly, the Department is amending the certification to include workers of Sara Lee Corporation supplying accounting and payroll services at the Bellevue, Nebraska facility.

The intent of the Department's certification is to include all workers of the subject firm who were adversely affected by the subject firm's acquisition from foreign countries services like or directly competitive with the services supplied by the workers, including but not limited to accounting and payroll.

The amended notice applicable to TA-W-71,529 is hereby issued as follows:

All workers of Sara Lee Corporation, Master Data, Cash Applications, Deductions, Collections, Call Center, Information Technology, Accounts Payable, General Accounts, Financial Accounting, Payroll, and Employee Master Data Departments, including on-site leased workers from Adecco, Crossfire, Kelly, K-Force, Labor Ready Staffing, Randstad, RGP, RHI, Sapphire Technology, Select Staffing, Snelling Staffing, TekSystems, The Brighton Group, TraSys, VIP Staffing, and Workforce Temps, Earth City, Missouri (TA-W-71,529) and all workers of Sara Lee Corporation, Bellevue, Nebraska (TA-W-71,529A), supplying accounting and payroll services, who became totally or partially separated from employment on or after July 1, 2008 through January 13, 2012, and all workers in the group threatened with total or partial separation from employment on the date of certification through January 1, 2012, are eligible to apply for adjustment assistance under Chapter 2 of Title II of the Trade Act of 1974, as amended.

Signed in Washington, DC, this 17th day of December 2010.
Del Min Amy Chen,
Certifying Officer, Office of Trade Adjustment Assistance.

[FR Doc. 2011-763 Filed 1-13-11; 8:45 am]

BILLING CODE 4510-FN-P